DEPARTMENT OF AGRICULTURE

Agricultural Marketing Service

7 CFR Part 42

[Doc. No. AMS-FV-08-0027; FV-05-332]

United States Standards for Condition of Food Containers

AGENCY: Agricultural Marketing Service, USDA.

ACTION: Proposed rule.

SUMMARY: The Agricultural Marketing Service (AMS) proposes to amend the regulations governing the United States (U.S.) Standards for Condition of Food Containers. AMS regularly reviews standards to determine if they meet current industry practices. Based on our most recent review, we believe that the U.S. Standards for Condition of Food Containers needs to be revised. The revisions are necessary in order to provide standards that reflect current industry practices. Revisions to the U.S. Standards for Condition of Food Containers include simplifying Tables I, I-A, II, II-A, III, III-A, and III-B for sampling plans for normal, tightened, and reduced condition of container inspection to reflect the type of sampling plan used (single or double). It also includes updating the Acceptable Quality Levels (AQLs), Tables IV—Metal Containers, V—Glass Containers, VI—Rigid and Semirigid Containers, VII—Flexible Containers (Plastic, Cello, Paper, Textile, etc.), and X—Defects of Label, Marking, or Code (currently Table VIII) to incorporate new defects and updating current defects to include defects that would correspond to new packaging technologies such as aseptic packaging, metal cans with easy open lids, and plastic rings that hold several containers together. This revision also proposes adding new defect tables entitled Table VIII—Unitizing (Plastic or other type of casing/unitizing) and Table IX—Interior Can Defects. Finally, removing the Operating Characteristic (OC) curves for on-line sampling and inspection. Other minor non-substantive changes are also proposed.

DATES: Comments must be received on or before January 19, 2010.

ADDRESSES: Interested persons are invited to submit written comments or comments on the Internet. Comments must be sent to Lynne Yedinak, Processed Products Branch, Fruit and Vegetable Programs, Agricultural Marketing Service, U.S. Department of Agriculture, 1400 Independence Avenue, SW., Stop 0247, Washington, DC 20250-0247; Telephone: (202) 720-9939; FAX: (202) 690-1527; or Internet: http://www.regulations.gov. The current U.S. Standards for Condition of Food Containers is available through the address cited below or by accessing the Internet at: http://www.access.gpo.gov/nara/cfr/waisidx_00/7cfr42_00.html. All comments received will be posed without change, including any personal information provided. All comments should make reference to the date and page number of this issue of the Federal Register and will be made available for public inspection in the above office during regular business hours or can be viewed at: http://www.regulations.gov.

FOR FURTHER INFORMATION CONTACT: Lynne Yedinak at the above address, Telephone: (202) 720-9939, Fax: (202) 690-1527, or e-mail FQAStaff@ams.usda.gov.

SUPPLEMENTARY INFORMATION:

Executive Order 12866 Regulatory Flexibility Act

This proposed rule has been determined to be not significant for purposes of Executive Order 12866 and, therefore, has not been reviewed by the Office of Management and Budget.

Pursuant to requirements set forth in the Regulatory Flexibility Act (RFA) (5 U.S.C. 601-612), AMS has considered the economic impact of this action on small entities. Accordingly, AMS has prepared this initial regulatory flexibility analysis.

The purpose of the RFA is to fit regulatory action to the scale of business subject to such actions in order that small businesses will not be unduly or disproportionately burdened.

There are approximately 26,361 establishments identified in the 1997 Economic Census as belonging to the North American Industry Classification System under the classification of “food manufacturing” and any number of these establishments could request their product containers be inspected under the provisions of the U.S. Standards for Condition of Food Containers for a number of AMS Program areas. The vast majority of these establishments would qualify as small businesses under the definition provided by the Small Business Administration.

We have examined the economic implications of this proposed rule on small entities. Under the proposed rule, utilization of the U.S. Standards for Condition of Food Containers is voluntary. Small entities would only incur direct costs when purchasers, of their packaged food products, stipulate in their procurement documents that the food containers should conform to the requirements of the U.S. Standards for Condition of Food Containers. Since the standards were previously amended in May 1983, innovations in packaging technologies have provided an increasingly wide variety of acceptable new food containers. These new food containers are not represented by the current standards. According, we believe that this impact will be minimal because the revisions are necessary in order to provide standards that reflect current industry practices. Finally, the changes concerning removal of OC curves and other non-substantive changes will have no adverse impact on small or large entities.

This rule would not impose any additional reporting or recordkeeping requirements on either small or large establishments. In addition, the Department has not identified any relevant Federal rules that duplicate, overlap or conflict with the Standards.

AMS is committed to complying with the E-Government Act, to promote the use of the Internet and other information technologies to provide increased opportunities for citizen access to Government information and services, and for other purposes.

Executive Order 12988

The rule has been reviewed under Executive Order 12988, Civil Justice Reform. There are no administrative procedures which must be exhausted prior to any judicial challenge to the provisions of this rule.

Background

The U.S. Standards for Condition of Food Containers (Standards) currently provides sampling procedures and acceptance criteria for the inspection of stationary lots of filled food containers, which includes skip lot sampling and inspection procedures. It also provides on-line sampling and inspection procedures food containers during production.

Stationary lot sampling is the process of randomly selecting sample units from a lot whose production has been completed. This type of lot is usually stored in a warehouse or in some other storage facility and is offered for inspection.

Skip lot sampling is a special procedure for inspecting stationary lots in which only a fraction of the submitted lots are inspected. Skip lot inspection can only be instituted when a certain number of lots of essentially the same quality have been consecutively accepted. To be acceptable under the examination criteria in the standards, lots may contain only a limited number of defects classified as minor, major, and critical. Acceptance criteria are based on sampling plans for different lot sizes and levels of inspection such as normal, reduced, or tightened. Defect tables classify the severity of the defect.

On-line sampling and inspection is a procedure in which subgroups of sample units or individual containers are selected randomly from pre-designated portions of production. The acceptability of these portions of production is determined by inspecting, at the time of sampling, the subgroups which represent these portions. For this type of sampling, only portions of a lot, rather than a whole lot, may be rejected. This helps to quickly pinpoint trouble spots in a production cycle, enabling the producer to make timely corrections, thus reducing the monetary value and total amount of product destroyed as a result of packaging problems.

These standards were developed for the use of Government agencies when requested to certify that filled primary containers or shipping cases, or both, be certified for condition. The standards are permissive, and they may be used in their entirety, or in part, by private parties as well.

AMS proposes to revise the Standards to include: (1) separating Tables I, I-A, II, II-A, III, III-A, and III-B of sampling plans for normal, tightened, and reduced inspection by the type of sampling plan used (single or double), as well as updating the Acceptable Quality Levels (AQLs); (2) updating Tables IV—Metal Containers, V—Glass Containers, VI—Rigid and Semirigid Containers, VII—Flexible Containers (Plastic, Cello, Paper, Textile, etc.), and X—Defects of Label, Marking, or Code (currently Table VIII) to incorporate new defects and revising current defects to reflect the new packaging technologies such as aseptic packaging, metal cans with easy open lids, and plastic rings that hold several containers together; (3) adding new defect tables, Table VIII—Unitizing (Plastic or other type of casing/unitizing) and Table IX—Interior Can Defects; (4) removing the Operating Characteristic (OC) curves; and (5) other minor non-substantive changes to clarify and to determine non-substantive changes.

These revisions to existing tables, addition of new tables, removal of OC curves, and updating language in the container standards would enable the standards to be applicable to most types of food containers and align the standards to reflect current industry practices.

OC Curves found in §§ 42.140, 42.141, 42.142, and 42.143 from Subpart E—Miscellaneous, are proposed to be completely removed. While these curves show the ability of the various sampling plans to distinguish between good and bad lots, it is our experience that the inclusion of these curves are not critical to use of the standards. Furthermore, they are readily available in literature, on the Internet and Standards for sampling plans are also currently available in 7 CFR Part 43.

A sixty-day comment period is provided for all interested persons to comment on this proposal. All written comment received will be considered before a final determination is made on this matter.

List of Subjects in 7 CFR Part 42

Food packaging, reporting and recordkeeping requirements.

For the reasons set forth in the preamble, 7 CFR part 42 is proposed to be amended as follows:

PART 42—[AMENDED]

1. The authority citation for part 42 continues to read as follows:

Authority: 7 U.S.C. 1622, 1624.

2. § 42.102 is amended by:

a. Removing the terms Operating Characteristic Curve (OC Curve) and Probability of acceptance, which includes (a) For stationary lot sampling and (b) For On-line Sampling; and

b. Revising the terms Administrator, Lot or inspection lot, Sample size (n), and Stationary lot sampling to read as follows:

§ 42.102 Definitions, general.

* * * * *

Administrator. The Administrator of the Agricultural Marketing Service (AMS) of the Department or any other officer or employee of the Agency who is delegated, or who may be delegated the authority to act in his stead.

* * * * *

Lot or inspection lot. A collection of filled food containers of the same size, type, and style. The term shall mean “inspection lot,” i.e., a collection of units of product from which a sample is to be drawn and inspected to determine conformance with the applicable acceptance criteria. An inspection lot may differ from a collection of units designated as a lot for other purposes (e.g., production lot, shipping lot, etc.).

* * * * *

Sample size (n). The number of sample units included in the sample.

* * * * *

Stationary lot sampling. The process of randomly selecting sample units from a lot whose production has been completed. This type of lot is usually stored in a warehouse or in some other storage facility and is offered in its entirety for inspection.

* * * * *

§ 42.106 [Amended]

3. In § 42.106, paragraph (a)(1) the word “atributed” is revised to read “attributed”.

4. Revise § 42.109 to read as follows:

§ 42.109 Sampling plans for normal condition of container inspection, Tables I and I-A.

Table I—Single Sampling Plans for Normal Condition of Container Inspection
Code | Lot size ranges—number of containers in lot | Type of plan | Acceptable quality levels: Origin Inspection: Sample Size | Acceptable quality levels: Origin Inspection: 0.25: Ac | Acceptable quality levels: Origin Inspection: 0.25: Re | Acceptable quality levels: Origin Inspection: 1.5: Ac | Acceptable quality levels: Origin Inspection: 1.5: Re | Acceptable quality levels: Origin Inspection: 6.5: Ac | Acceptable quality levels: Origin Inspection: 6.5: Re | Acceptable quality levels: Other than origin inspection: 0.25: Ac | Acceptable quality levels: Other than origin inspection: 0.25: Re | Acceptable quality levels: Other than origin inspection: 2.5: Ac | Acceptable quality levels: Other than origin inspection: 2.5: Re | Acceptable quality levels: Other than origin inspection: 10.0: Ac | Acceptable quality levels: Other than origin inspection: 10.0: Re
CA | 6,000 or less | Single | 84 | 0 | 1 | 3 | 4 | 9 | 10 | 0 | 1 | 4 | 5 | 13 | 14
CB | 6,001-12,000 | Single | 168 | 1 | 2 | 5 | 6 | 16 | 17 | 1 | 2 | 7 | 8 | 23 | 24
CC | 12,001-36,000 | Single | 315 | 2 | 3 | 8 | 9 | 28 | 29 | 2 | 3 | 13 | 14 | 41 | 42
CD | Over 36,000 | Single | 500 | 3 | 4 | 12 | 13 | 42 | 43 | 3 | 4 | 18 | 19 | 62 | 63
CE |  | Single | 800 | 4 | 5 | 18 | 19 | 64 | 65 | 4 | 5 | 27 | 28 | 95 | 96
Ac = Acceptance number.
Re = Rejection number.

BILLING CODE 3410-02-P

5. Revise § 42.110 to read as follows:

§ 42.110 Sampling plans for tightened condition of container inspection; Tables II and II-A.

Table II—Single Sampling Plans for Tightened Condition of Container Inspection
Code | Lot size ranges—number of containers in lot | Type of plan | Acceptable quality levels: Origin inspection: Sample size | Acceptable quality levels: Origin inspection: 0.25: Ac | Acceptable quality levels: Origin inspection: 0.25: Re | Acceptable quality levels: Origin inspection: 1.5: Ac | Acceptable quality levels: Origin inspection: 1.5: Re | Acceptable quality levels: Origin inspection: 6.5: Ac | Acceptable quality levels: Origin inspection: 6.5: Re | Acceptable quality levels: Other than origin inspection: 0.25: Ac | Acceptable quality levels: Other than origin inspection: 0.25: Re | Acceptable quality levels: Other than origin inspection: 2.5: Ac | Acceptable quality levels: Other than origin inspection: 2.5: Re | Acceptable quality levels: Other than origin inspection: 10.0: Ac | Acceptable quality levels: Other than origin inspection: 10.0: Re
CB | 6,000 or less | Single | 168 | 0 | 1 | 4 | 5 | 11 | 12 | 0 | 1 | 5 | 6 | 16 | 17
CC | 6,001-12,000 | Single | 315 | 1 | 2 | 6 | 7 | 19 | 20 | 1 | 2 | 8 | 9 | 28 | 29
CD | 12,001-36,000 | Single | 500 | 2 | 3 | 9 | 10 | 28 | 29 | 2 | 3 | 12 | 13 | 42 | 43
CE | Over 36,000 | Single | 800 | 3 | 4 | 13 | 14 | 42 | 43 | 3 | 4 | 18 | 19 | 64 | 65
CF |  | Single | 1,250 | 4 | 5 | 19 | 20 | 63 | 64 | 4 | 5 | 26 | 27 | 96 | 97

6. Revise § 42.111 to read as follow:

§ 42.111 Sampling plans for reduced condition of container inspection, Tables III and III-A; and limit number for reduced inspection, Table III-B.

Table III—Single Sampling Plans for Reduced Condition of Container Inspection
Code | Lot size ranges—number of containers in lot | Type of plan | Acceptable quality levels: Origin inspection: Sample size | Acceptable quality levels: Origin inspection: 0.25: Ac | Acceptable quality levels: Origin inspection: 0.25: Re | Acceptable quality levels: Origin inspection: 1.5: Ac | Acceptable quality levels: Origin inspection: 1.5: Re | Acceptable quality levels: Origin inspection: 6.5: Ac | Acceptable quality levels: Origin inspection: 6.5: Re | Acceptable quality levels: Other than origin inspection: 0.25: Ac | Acceptable quality levels: Other than origin inspection: 0.25: Re | Acceptable quality levels: Other than origin inspection: 2.5: Ac | Acceptable quality levels: Other than origin inspection: 2.5: Re | Acceptable quality levels: Other than origin inspection: 10.0: Ac | Acceptable quality levels: Other than origin inspection: 10.0: Re
CAA | 6,000 or less | Single | 29 | 1 | 2 | 1 | 2 | 4 | 5 | 1 | 2 | 2 | 3 | 5 | 6
CA | 6,001-36,000 | Single | 84 | 1 | 2 | 3 | 4 | 9 | 10 | 1 | 2 | 4 | 5 | 13 | 14
CB | Over 36,000 | Single | 168 | 1 | 2 | 5 | 6 | 16 | 17 | 1 | 2 | 7 | 8 | 23 | 24
CC |  | Single | 315 | 2 | 3 | 8 | 9 | 28 | 29 | 2 | 3 | 13 | 14 | 41 | 42

BILLING CODE 3410-02-C

Table III-B—Limit Numbers for Reduced Inspection
Number of sample units from last 10 lots inspected within 6 months | Acceptable quality level: 0.25 | Acceptable quality level: 1.5 | Acceptable quality level: 2.5 | Acceptable quality level: 6.5 | Acceptable quality level: 10.0
320-499 | * | 1 | 4 | 14 | 24
500-799 | * | 3 | 7 | 25 | 40
800-1,249 | 0 | 7 | 14 | 42 | 68
1,250-1,999 | 0 | 13 | 24 | 69 | 110
2,000-3,149 | 2 | 22 | 40 | 115 | 181
3,150-4,999 | 4 | 38 | 67 | 186 | 293
5,000-7,999 | 7 | 63 | 110 | 302 | 472
8,000-12,499 | 14 | 105 | 181 | 491 | 765
12,500-19,999 | 24 | 169 | 290 | 777 | 1207
* Denotes that the number of sample units from the last 10 inspection lots is not sufficient for reduced inspection for this AQL. In this instance more than 10 inspection lots may be used for the calculations if the inspection lots used are the most recent ones in sequence within the last 6 months, they have all been on normal inspection, and none has been rejected on original inspection.

7. Revise § 42.112 to read as follows:

§ 42.112 Defects of containers: Tables IV, V, VI, VII, VIII, and IX.

Table IV—Metal Containers
Defects | Categories: Critical | Categories: Major | Categories: Minor
Type or size of container or component parts not as specified | None permitted.
Closure incomplete, not located correctly or not sealed, crimped, or fitted properly | 1 |  |
Dirty, stained or smeared container |  |  | 201
Key opening metal containers (when required):
(a) Key missing |  | 101 |
(b) Key does not fit tab |  | 102 |
(c) Tab of opening band insufficient to provide accessibility to key |  | 103 |
(d) Improper scoring (band would not be removed in one continuous strip) |  | 104 |
Metal pop-top:
(a) Missing or broken pull tab |  | 105 |
(b) Missing or incomplete score line |  | 106 |
Flexible pop-top:
(a) Poor seal (wrinkle, entrapped matter, etc.) |  | 107 |
(b) Short pull tab |  |  | 202
(c) Missing pull tab |  | 108 |
(d) Torn pull tab |  |  | 203
Open top with plastic overcap (when required):
(a) Plastic overcap missing |  | 109 |
(b) Plastic overcap warped (making opening or reapplication difficult) |  | 110 |
Outside tinplate or coating (when required):
(a) Missing or incomplete |  |  | 204
(b) Blistered, flaked, sagged, or wrinkled |  |  | 205
(c) Scratched or scored |  |  | 206
(d) Fine cracks |  |  | 207
Rust (rust stain confined to the top or bottom double seam or rust that can be removed with a soft cloth is not scored a defect):
(a) Rust stain |  |  | 208
(b) Pitted rust |  | 111 |
Wet cans (excluding refrigerated containers) |  |  | 209
Dent:
(a) Materially affecting appearance but not usability |  |  | 210
(b) Materially affecting usability |  | 112 |
Buckle:
(a) Not involving end seam |  |  | 211
(b) Extending into the end seam |  | 113 |
Collapsed container |  | 114 |
Paneled side materially affecting appearance but not usability |  |  | 212
Solder missing when required |  | 115 |
Cable cut exposing seam |  | 116 |
Improper side seam |  | 117 |
Swell, springer, or flipper (not applicable to gas or pressure packed product nor frozen products) | 2 |  |
Leaker or blown container | 3 |  |
Frozen products only:
(a) Bulging ends 3/16″ to ¼″ beyond lip |  |  | 213
(b) Bulging ends more than ¼″ beyond lip |  | 118 |
Metal drums: leaking filling seal (bung) swell |  | 119 |
Composite can (fiberboard body with metal lids):
(a) Torn:
(1) Materially affecting appearance but not usability |  |  | 214
(2) Materially affecting usability |  | 120 |
(b) Crushed:
(1) Materially affecting appearance but not usability |  |  | 215
(2) Materially affecting usability |  | 121 |

Table V—Glass Containers
Defects | Categories: Critical | Categories: Major | Categories: Minor
Type or size of container or component parts not as specified | None permitted.
Closure not sealed, crimped, or fitted properly | 1 |  |
Dirty, stained, or smeared container |  |  | 201
Chip in glass |  |  | 202
Stone (unmelted material) in glass |  |  | 203
Pits in surface of glass |  |  | 204
Sagging surface |  |  | 205
Bead (bubble within glass):
(a) ⅛″ to 1/16″ in diameter |  |  | 206
(b) Exceeding ⅛″ in diameter |  | 101 |
Checked |  | 102 |
Thin spot in glass |  | 103 |
Blister (structural defect) |  | 104 |
Bird swing (glass appendage inside container) | 2 |  |
Broken or leaking container | 3 |  |
Cap (nonheat processed):
(a) Cross-threaded |  |  | 207
(b) Loose but not leaking |  |  | 208
(c) Pitted rust |  | 105 |
Cap (heat processed):
(a) Cross-threaded or loose | 4 |  |
(b) Pitted rust |  | 106 |
Sealing tape or cello band (when required):
(a) Improperly placed |  |  | 209
(b) Not covering juncture of cap and glass |  | 107 |
(c) Ends overlap by less than ½” |  | 108 |
(d) Loose or deteriorating |  | 109 |
Missing or torn outer safety seal |  | 110 |
Inner safety seal—missing, torn, poor seal |  | 111 |

Table VI—Rigid and Semirigid Containers—Corrugated or Solid Fiberboard, Chipboard, Wood, etc.
[Excluding glass and metal]
Defects | Categories: Critical | Categories: Major | Categories: Minor
Type or size of container or component parts not as specified | None permitted.
Component part missing |  | 101 |
Closure not sealed, crimped, or fitted properly:
(a) Primary container | 1 |  |
(b) Other than primary container |  |  | 201
Dirty, stained, or smeared container |  |  | 202
Wet or damp (excluding ice packs):
(a) Materially affecting appearance but not usability |  |  | 203
(b) Materially affecting usability |  | 102 |
Moldy area | 2 |  |
Crushed or torn area:
(a) Materially affecting appearance but not usability |  |  | 204
(b) Materially affecting usability |  | 103 |
Separation of lamination (corrugated fiberboard):
(a) Materially affecting appearance but not usability |  |  | 205
(b) Materially affecting usability |  | 104 |
Product sifting or leaking |  | 105 |
Nails or staples (when required):
(a) Not as required, insufficient number or improperly positioned |  |  | 206
(b) Nails or staples protruding |  | 106 |
Glue or adhesive (when required); not holding properly not covering area specified, or not covering sufficient area to hold properly:
(a) Primary container |  | 107 |
(b) Other than primary container |  |  | 207
Flap:
(a) Projects beyond edge of container more than ¼-inch |  |  | 208
(b) Does not meet properly, allowing space of more than ¼-inch |  |  | 209
Sealing tape or strapping (when required):
(a) Missing |  | 108 |
(b) Improperly placed or applied |  |  | 210

Table VII—Flexible Containers (Plastic, Cello, Paper, Textile, etc.)
Defects | Categories: Critical | Categories: Major | Categories: Minor
Type or size of container or component parts not as specified | None permitted.
Closure not sealed, crimped, stitched, or fitted properly:
(a) Primary container | 1 |  |
(b) Other than primary container |  |  | 201
Dirty, stained, or smeared container |  |  | 202
Unmelted gels in plastic |  |  | 203
Torn or cut container or Abrasion (non-leaker):
(a) Materially affecting appearance but not usability |  |  | 204
(b) Materially affecting usability |  | 101 |
Moldy area | 2 |  |
Individual packages sticking together or to shipping case (tear when separated) |  | 102 |
Not fully covering product |  | 103 |
Wet or damp (excluding ice packs):
(a) Materially affecting appearance but not usability |  |  | 205
(b) Materially affecting usability |  | 104 |
Over wrap (when required):
(a) Missing |  | 105 |
(b) Loose, not sealed or closed |  |  | 206
(c) Improperly applied |  |  | 207
Sealing tape, strapping or adhesives (when required):
(a) Missing |  | 106 |
(b) Improperly placed, applied, torn, or wrinkled |  |  | 208
Tape over bottom and top closures (when required):
(a) Not covering stitching |  | 107 |
(b) Torn (exposing stitching) |  | 108 |
(c) Wrinkled (exposing stitching) |  | 109 |
(d) Not adhering to bag:
1. Exposing stitching |  | 110 |
2. Not exposing stitching |  |  | 209
(e) Improper placement |  |  | 210
Product sifting or leaking |  |  |
(a) Non-heat processed |  | 111 |
(b) Heat processed | 3 |  |
Fold or wrinkle in seal area (thermo stabilized pouches) |  |  |
(a) Extends through all plies across seal area or reduces seal to less than 1/16-inch | 4 |  |
(b) Does not extend through all plies and effective seal to is 1/16-inch or greater |  |  | 211
Incomplete seal (thermo stabilized pouches) | 5 |  |
Non-bonding seal (thermo stabilized pouches) | 6 |  |
Laminate separation | 7 |  |
Flex cracks (cracks in foil layer only) |  |  | 212
Swollen container | 8 |  |
Blister (in seal) |  |  |
(a) Intact seal reduced to less than 1/16-inch | 9 |  |
(b) Intact seal 1/16-inch or greater |  |  | 213
Compressed seal (overheated to bubble or expose inner layer) reducing intact seal to less than 1/16-inch | 10 |  |
Stringy seal (excessive plastic threads showing at edge of seal area) |  |  | 214
Contaminated seal (entrapped matter) reducing intact seal to less than 1/16-inch | 11 |  |
Seal creep (product in pouch “creeping” into seal)
(a) Intact seal reduced to less than 1/16-inch | 12 |  |
(b) Intact seal 1/16-inch or greater |  |  | 215
Misaligned or crooked seal reducing intact seal to less than 1/16-inch | 13 |  |
Seal formed greater than 1-inch from edge of pouch (unclosed edge flaps) |  |  | 216
Waffling (embossing on surface from retort racks) |  |  | 217
Poor or missing tear notch |  |  | 218
Missing “zip lock” (re-sealable containers) |  |  | 219
Loss of vacuum (vac pack) |  | 112 |
Pre-formed containers:
(a) Dented or crushed area |  |  | 220
(b) Deformed container |  |  | 221
Missing resealable cap |  | 113 |
Inner or outer safety seal—missing, torn, poor seal | 14 |  |
Air bubble in plastic |  | 114 |
Flexible pop-top:
(a) Poor seal (wrinkle, entrapped matter, etc.):
(1) Intact seal reduced to less than 1/16-inch | 15 |  |
(2) Intact seal 1/16-inch or greater |  |  | 222
(b) Short pull tab (materially affecting usability) |  |  | 223
(c) Missing pull tab |  | 115 |
(d) Torn pull tab (materially affecting usability) |  |  | 224
Missing component (straw, etc.) |  |  | 225
Two part container (poly lined box or bag in box):
(a) Outer case torn |  |  | 226
(b) Poly liner:
1. Missing | 16 |  |
2. Improper closure |  | 116 |

Table VIII—Unitizing (Plastic or Other Type of Casing/Unitizing)
Defects | Categories: Major | Categories: Minor
Not specified method | 101 |
Missing tray (when required) | 102 |
Missing shrink wrap (when required) | 103 |
Loose or improperly applied wrap |  | 201
Torn or mutilated |  | 202
Off-center wrap (does not overlap both ends) |  | 203

Table IX—Interior Can Defects
Defects | Categories: Major | Categories: Minor
De-tinning | 101 | 201
Black spots |  | 202
Enamel missing (when required) | 102 |
Enamel breakdown | 103 | 203
Enamel cracked | 104 | 204

8. Section 42.113 is revised to read as follows:

§ 42.113 Defects of label, marking, or code: Table X.

Table X—Label, Marking, or Code
Defects | Categories: Major | Categories: Minor
Not specified method | 101 |
Missing (when required) | 102 |
Loose or improperly applied |  | 201
Torn or mutilated |  | 202
Torn or scratched, obliterating any markings on the label | 103 |
Text illegible or incomplete |  | 203
Incorrect | 104 |
In wrong location |  | 204

Subpart E—[Removed]

9. In part 42, Subpart E—Miscellaneous, consisting of §§ 42.140, 42.141, 42.142, and 42.143, is removed.

Dated: November 9, 2009.
Rayne Pegg,
Administrator, Agricultural Marketing Service.

[FR Doc. E9-27430 Filed 11-18-09; 8:45 am]

BILLING CODE 3410-02-P